DEPARTMENT OF HEALTH AND HUMAN SERVICES

Food and Drug Administration

[Docket No. FDA-N-2016-4198]

Public Meeting on Patient-Focused Drug Development for Sarcopenia; Request for Comments; Correction

AGENCY: Food and Drug Administration, HHS.

ACTION: Notice; correction.

SUMMARY: The Food and Drug Administration is correcting a notice entitled “Public Meeting on Patient-Focused Drug Development for Sarcopenia” that appeared in the Federal Register of December 14, 2016 (81 FR 90361). The document announced a public meeting and an opportunity for public comment on Patient-Focused Drug Development for Sarcopenia. The location of the meeting has changed and this document provides the updated meeting location.

FOR FURTHER INFORMATION CONTACT: Meghana Chalasani, Center for Drug Evaluation and Research, Food and Drug Administration, 10903 New Hampshire Ave., Bldg. 51, Rm. 1146, Silver Spring, MD 20993-0002, 240-402-6525, FAX: 301-847-8443, Meghana.Chalasani@fda.hhs.gov.

In the Federal Register of Wednesday, December 14, 2016, in FR Doc. 2016-29998, the following correction is made:

1. On page 90361, in the second column, in the first sentence of the ADDRESSES section, “FDA White Oak Campus, 10903 New Hampshire Ave., Bldg. 31 Conference Center, the Great Room, (Rm. 1503), Silver Spring, MD 20993-0002.” is corrected to read “Tommy Douglas Conference Center, 10000 New Hampshire Ave., Silver Spring, MD 20903.”

Dated: March 13, 2017.
Leslie Kux,
Associate Commissioner for Policy.

[FR Doc. 2017-05247 Filed 3-15-17; 8:45 am]

BILLING CODE 4164-01-P